DEPARTMENT OF LABOR

Employment and Training Administration

[TA-W-64,294]

Global Tech Building Services, Corp., Employed On-Site at Hynix Semiconductor Manufacturing America, Inc., Eugene, OR; Notice of Termination of Investigation

Pursuant to Section 221 of the Trade Act of 1974, as amended, an investigation was initiated on October 28, 2008, in response to a petition filed on behalf of workers of Global Tech Building Services Corp., employed on-site at Hynix Semiconductor Manufacturing America, Inc., Eugene, Oregon.

The petitioning group of workers is covered by an active certification (TA-W-63,747, amended), which expires on August 20, 2010. Consequently, further investigation in this case would serve no purpose, and the investigation has been terminated.

Signed at Washington, DC, this 12th day of November 2008.
Linda G. Poole,
Certifying Officer, Division of Trade Adjustment Assistance.

[FR Doc. E8-27927 Filed 11-24-08; 8:45 am]

BILLING CODE 4510-FN-P